DEPARTMENT OF DEFENSE

Office of the Secretary

Draft Environmental Impact Statement Addressing Campus Development at Fort Meade, MD

AGENCY: Department of Defense (DoD).

ACTION: Notice of availability; notice of public meeting; request for comments.

SUMMARY: The Department of Defense (DOD) announces the availability of the Draft Environmental Impact Statement (EIS) as part of the environmental planning process for a Campus Development Project at Fort George G. Meade, Maryland (hereafter referred to as Fort Meade). The DOD proposes the development of a portion of Fort Meade (referred to as “Site M”) as an operational complex and to construct and operate consolidated facilities to meet the National Security Agency's (NSA) continually evolving requirements and for Intelligence Community use. The purpose of the proposed action is to provide facilities that are fully-supportive of the Intelligence Community's mission. The action is driven by the need to co-locate key partnering organizations to ensure required capabilities for current and future missions are achieved.

This notice announces a 45-day comment period and provides information on how to participate in the public review process. The public comment period for the Draft EIS will officially end 45 days after publication of U.S. Environmental Protection Agency's Notice of Availability in the Federal Register.

DATES: There will be an open house beginning at 4:30 p.m. followed by a public meeting from 5 p.m. to 7 p.m. on July 21, 2010 (see ADDRESSES for meeting location). The public meeting may end earlier or later than the stated time depending on the number of persons wishing to speak. All materials that are submitted in response to the Draft EIS should be received by August 13, 2010, to provide sufficient time to be considered in preparation of the Final EIS.

ADDRESSES: Copies of the Draft EIS are available for your review at the Fort Meade Main Post Library, 4418 Llewellyn Avenue, Fort Meade, MD 20755. You may also call (301) 688-2970 or send an e-mail to CampusEIS@hdrinc.com to request a copy of the Draft EIS.

The open house and scoping meeting will be held at the Fort Meade Middle School, 1103 26th Street, Fort Meade, Maryland 20755. Oral and written comments will be accepted at the scoping meeting. You can also submit written comments to “Campus Development EIS” c/o HDR|e²M, 2751 Prosperity Avenue, Suite 200, Fairfax, VA 22031 or submitted by e-mail to CampusEIS@hdrinc.com.

FOR FURTHER INFORMATION CONTACT: Mr. Jeffrey Williams at (301) 688-2970, or e-mail jdwill2@nsa.gov.

SUPPLEMENTARY INFORMATION: Background: The NSA is a tenant DOD agency on Fort Meade. NSA is a high-technology organization that is on the frontier of communications and data processing. In order to meet evolving mission requirements, the development of a modern operational complex is needed at the NSA campus on Fort Meade.

Proposed Action and Alternatives: The Campus Development Project was initiated to provide a modern operational complex to meet the evolving mission requirements of NSA and the Intelligence Community. Development is proposed for a portion of Fort Meade (referred to as “Site M”) adjacent to the NSA campus. Site M is divided into northern (Site M-1, 137 acres) and southern (Site M-2, 90 acres) portions. DOD proposes that development of Site M occur in three option phases over a horizon of approximately 20 years.

• Proposed Action (Phase I). Development would occur in the near term (approximately 2012 to 2014) on the eastern half of Site M-1, supporting 1.8 million square feet (ft²) of facilities for NSA to consolidate mission elements, enabling services, and support services across the campus based on function; servicing the need for more collaborative environment and optimal adjacencies, including associated infrastructure (e.g., electrical substation and generator plants providing 50 megawatts of electricity) and administrative functions for up to 6,500 personnel. This phase would also include a steam and chilled water plant, water storage tower, and electrical substations and generator facilities capable of supporting the entire operational complex on Site M.

• Alternative 1 (Phases I and II). Alternative 1 would include the implementation of the Proposed Action (Phase I) along with Phase II. Phase II would occur in the mid-term (approximately 2020) on the western half of Site M-1, supporting 1.2 million ft² of administrative facilities.

• Alternative 2 (Phases I, II, and III). Alternative 2 would include the implementation of the Proposed Action (Phase I) along with Phases II and III. Development would occur on Site M-2 in the long term (approximately 2029), supporting an additional 2.8 million ft² of administrative facilities, bringing built space to 5.8 million ft² for up to 11,000 personnel.

Alternatives identified include each of the development phases identified above, as well as three options for redundant emergency backup power generation and various pollution control systems. The No Action Alternative (not undertaking the Campus Development Project) will also be analyzed in detail.

Summary of Environmental Impacts: The level of potential environmental impacts resulting from the Proposed Action and alternatives would primarily be dependent on the alternative ultimately selected. Environmental impacts would generally be more adverse for Alternatives 1 and 2 than for the Proposed Action due to the increase in building footprint and the number of additional personnel associated with the alternatives.

Generally, construction and demolition activities would be expected to result in some amount of ground disturbance. Short-term adverse on-site impacts on soil and water resources as a result of sedimentation, erosion, and storm water runoff are unavoidable. Construction and demolition activities also generate solid waste. These kinds of impacts would be expected regardless of the alternative chosen. Long-term operation of the complex would be expected to result in negligible to moderate impacts on land use, transportation, noise, air quality, biological resources, infrastructure, hazardous materials and waste, and socioeconomic resources. Potential significant impacts on cultural resources could occur under Alternative 2 if potentially historic properties are not treated as a design constraint and avoided.

Best Management Practices and Mitigation Measures. The Proposed Action has the potential to result in adverse environmental impacts. The Proposed Action includes best management practices, mitigation measures, and design concepts to avoid adverse impacts to the extent practicable. Unavoidable impacts would be minimized or compensated for, to the extent practicable. In accordance with Council on Environmental Quality regulations, mitigation measures must be considered for adverse environmental impacts. Once a particular impact associated with a proposed action is considered significant, then mitigation measures must be developed where it is feasible to do so.

Copies of the Draft EIS are available for public review at local repositories and by request (see ADDRESSES). The DOD invites public and agency input on the Draft EIS. Please submit comments and materials during the 45-day public review period to allow sufficient time for consideration in development of the Final EIS (see DATES).

Dated: June 22, 2010.
Mitchell S. Bryman,
Alternate OSD Federal Register Liaison Officer, Department of Defense.

[FR Doc. 2010-15457 Filed 6-24-10; 8:45 am]

BILLING CODE 5001-06-P